ENVIRONMENTAL PROTECTION AGENCY

[ER-FRL-8987-2]

Environmental Impacts Statements; Notice of Availability

Responsible Agency: Office of Federal Activities, General Information (202) 564-1399 or http://www.epa.gov/compliance/nepa/.

Weekly receipt of Environmental Impact Statements filed 12/28/2009 through 01/01/2010 pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

EIS No. 20090451, Draft EIS, FHWA, FL, St. Johns River Crossing Project, Improved Highway Corridor and Bridge Crossing the St. Johns River between Clay and St. Johns Counties, FL, Comment Period Ends: 02/22/2010, Contact: Cathy Kendall 850-942-9650.

EIS No. 20090452, Draft EIS, FHWA, MO, Rex Whitton Expressway Project, To Safely and Reliably Improve Personal and Freight Mobility, Reduce Traffic Congestion, U.S. 50/63 (Rex Whitton Expressway, also Known as Whitton) Facility in Cole County, MO, Comment Period Ends: 02/22/2010, Contact: Peggy Casey 573-636-7104.

Dated: January 5, 2010.
Robert W. Hargrove,
Director, NEPA Compliance Division, Office of Federal Activities.

[FR Doc. 2010-120 Filed 1-7-10; 8:45 am]

BILLING CODE 6560-50-P